DEPARTMENT OF ENERGY

Federal Energy Regulatory Commission

Combined Notice of Filings #2

Take notice that the Commission received the following electric rate filings:

Docket Numbers: ER24-1871-000.

Applicants: ORNI 18 LLC.

Description: § 205(d) Rate Filing: Revisions to Market-Based Rate Tariffs to be effective 6/30/2024.

Filed Date: 4/30/24.

Accession Number: 20240430-5013.

Comment Date: 5 p.m. ET 5/21/24.

Docket Numbers: ER24-1872-000.

Applicants: Southwest Power Pool, Inc.

Description: § 205(d) Rate Filing: East River Electric Power Cooperative, Inc. Formula Rates Revisions to be effective 1/1/2024.

Filed Date: 4/30/24.

Accession Number: 20240430-5014.

Comment Date: 5 p.m. ET 5/21/24.

Docket Numbers: ER24-1873-000.

Applicants: Ormesa LLC.

Description: § 205(d) Rate Filing: Revisions to Market-Based Rate Tariffs to be effective 6/30/2024.

Filed Date: 4/30/24.

Accession Number: 20240430-5015.

Comment Date: 5 p.m. ET 5/21/24.

Docket Numbers: ER24-1874-000.

Applicants: Mammoth Three LLC.

Description: § 205(d) Rate Filing: Revisions to Market-Based Rate Tariffs to be effective 6/30/2024.

Filed Date: 4/30/24.

Accession Number: 20240430-5016.

Comment Date: 5 p.m. ET 5/21/24

Docket Numbers: ER24-1875-000.

Applicants: Heber Geothermal Company LLC.

Description: § 205(d) Rate Filing: Revisions to Market-Based Rate Tariffs to be effective 6/30/2024.

Filed Date: 4/30/24.

Accession Number: 20240430-5017.

Comment Date: 5 p.m. ET 5/21/24.

Docket Numbers: ER24-1876-000.

Applicants: ORNI 36 LLC.

Description: § 205(d) Rate Filing: Revisions to Market-Based Rate Tariffs to be effective 6/30/2024.

Filed Date: 4/30/24.

Accession Number: 20240430-5018.

Comment Date: 5 p.m. ET 5/21/24.

Docket Numbers: ER24-1877-000.

Applicants: Ormat Stillwater Solar PV II LLC.

Description: § 205(d) Rate Filing: Notice of Succession and Tariff Revisions to be effective 6/30/2024.

Filed Date: 4/30/24.

Accession Number: 20240430-5020.

Comment Date: 5 p.m. ET 5/21/24.

Docket Numbers: ER24-1878-000.

Applicants: Ormat Stillwater Solar LLC.

Description: § 205(d) Rate Filing: Notice of Succession and Tariff Revisions to be effective 6/30/2024.

Filed Date: 4/30/24.

Accession Number: 20240430-5021.

Comment Date: 5 p.m. ET 5/21/24.

Docket Numbers: ER24-1879-000.

Applicants: Ormat Stillwater LLC.

Description: § 205(d) Rate Filing: Notice of Succession and Tariff Revisions to be effective 6/30/2024.

Filed Date: 4/30/24.

Accession Number: 20240430-5022.

Comment Date: 5 p.m. ET 5/21/24.

Docket Numbers: ER24-1880-000.

Applicants: Ormat Cove Fort LLC.

Description: § 205(d) Rate Filing: Notice of Succession and Tariff Revisions to be effective 6/30/2024.

Filed Date: 4/30/24.

Accession Number: 20240430-5023.

Comment Date: 5 p.m. ET 5/21/24.

Docket Numbers: ER24-1881-000.

Applicants: Canisteo Wind Energy LLC.

Description: Canisteo Wind Energy LLC requests a prospective waiver of Section 30.4.4.5.1 in Attachment X of the NYISO OATT.

Filed Date: 4/26/24.

Accession Number: 20240426-5393.

Comment Date: 5 p.m. ET 5/17/24.

Docket Numbers: ER24-1882-000.

Applicants: Clover Creek Solar Project, LLC.

Description: Request for Limited Waiver of Clover Creek Solar Project, LLC.

Filed Date: 4/30/24.

Accession Number: 20240430-5121.

Comment Date: 5 p.m. ET 5/21/24.

Docket Numbers: ER24-1883-000.

Applicants: Pacific Gas and Electric Company.

Description: § 205(d) Rate Filing: Q1 2024 Quarterly Filing of City and County of San Francisco's WDT SA (SA 275) to be effective 3/31/2024.

Filed Date: 4/30/24.

Accession Number: 20240430-5168.

Comment Date: 5 p.m. ET 5/21/24.

Docket Numbers: ER24-1884-000.

Applicants: Franklin Solar LLC.

Description: Baseline eTariff Filing: Co-Tenancy and Shared Facilities Agreement to be effective 5/1/2024.

Filed Date: 4/30/24.

Accession Number: 20240430-5177.

Comment Date: 5 p.m. ET 5/21/24.

Docket Numbers: ER24-1885-000.

Applicants: Jackpot Holdings, LLC.

Description: Baseline eTariff Filing: Amended and Restated Co-Tenancy and Shared Facilities Agreement to be effective 5/1/2024.

Filed Date: 4/30/24.

Accession Number: 20240430-5181.

Comment Date: 5 p.m. ET 5/21/24.

Docket Numbers: ER24-1886-000.

Applicants: Midcontinent Independent System Operator, Inc., Ameren Transmission Company of Illinois.

Description: § 205(d) Rate Filing: Midcontinent Independent System Operator, Inc. submits tariff filing per 35.13(a)(2)(iii: 2024-04-30_ATXI Request for Transmission Rate Incentive RE DZTM Project to be effective 6/30/2024.

Filed Date: 4/30/24.

Accession Number: 20240430-5185.

Comment Date: 5 p.m. ET 5/21/24.

Docket Numbers: ER24-1887-000.

Applicants: Franklin Solar LLC.

Description: § 205(d) Rate Filing: Certificate of Concurrence to A&R Co-Tenancy and Shared Facilities Agreement to be effective 5/1/2024.

Filed Date: 4/30/24.

Accession Number: 20240430-5188.

Comment Date: 5 p.m. ET 5/21/24.

Docket Numbers: ER24-1888-000.

Applicants: NMRD Data Center II, LLC.

Description: § 205(d) Rate Filing: NMRD DC II MBR Tariff Change-Notice of Cancellation to be effective 5/1/2024.

Filed Date: 4/30/24.

Accession Number: 20240430-5195.

Comment Date: 5 p.m. ET 5/21/24.

Docket Numbers: ER24-1889-000.

Applicants: NMRD Data Center III, LLC.

Description: § 205(d) Rate Filing: NMRD DC III MBR Tariff and Notice of Cancel filing to be effective 5/1/2024.

Filed Date: 4/30/24.

Accession Number: 20240430-5196.

Comment Date: 5 p.m. ET 5/21/24.

Docket Numbers: ER24-1890-000.

Applicants: BRP Capital & Trade LLC.

Description: Compliance filing: Notice of Change in Status to be effective 6/30/2024.

Filed Date: 4/30/24.

Accession Number: 20240430-5200.

Comment Date: 5 p.m. ET 5/21/24.

Docket Numbers: ER24-1891-000.

Applicants: Idaho Power Company.

Description: § 205(d) Rate Filing: RS No. 175—Concurrence—Jackpot Holdings, LLC SFA to be effective 5/1/2024.

Filed Date: 4/30/24.

Accession Number: 20240430-5216.

Comment Date: 5 p.m. ET 5/21/24.

Docket Numbers: ER24-1892-000.

Applicants: Idaho Power Company.

Description: § 205(d) Rate Filing: RS No. 176—Concurrence—Franklin Solar SFA to be effective 5/1/2024.

Filed Date: 4/30/24.

Accession Number: 20240430-5219.

Comment Date: 5 p.m. ET 5/21/24.

Docket Numbers: ER24-1893-000.

Applicants: Duke Energy Florida, LLC.

Description: § 205(d) Rate Filing: Annual Filing of Cost Factor Updates to be effective 5/1/2024.

Filed Date: 4/30/24.

Accession Number: 20240430-5230.

Comment Date: 5 p.m. ET 5/21/24.

Docket Numbers: ER24-1894-000.

Applicants: Stanton Clean Energy, LLC.

Description: Initial rate filing: FERC Rate Schedule No. 1, Stanton OUC PPA to be effective 5/1/2024.

Filed Date: 4/30/24.

Accession Number: 20240430-5276.

Comment Date: 5 p.m. ET 5/21/24.

Docket Numbers: ER24-1895-000.

Applicants: New England Power Pool Participants Committee.

Description: § 205(d) Rate Filing: May 2024 Membership Filing to be effective 4/1/2024.

Filed Date: 4/30/24.

Accession Number: 20240430-5280.

Comment Date: 5 p.m. ET 5/21/24.

Docket Numbers: ER24-1896-000.

Applicants: Cavalry Energy Center, LLC.

Description: Compliance filing: Notice of Non-Material Change in Status and MBR Tariff Revisions to be effective 6/30/2024.

Filed Date: 4/30/24.

Accession Number: 20240430-5290.

Comment Date: 5 p.m. ET 5/21/24.

Docket Numbers: ER24-1897-000.

Applicants: Northampton Generating Company, L.P.

Description: Compliance filing: Northampton Change in Status to be effective 5/1/2024.

Filed Date: 4/30/24.

Accession Number: 20240430-5292.

Comment Date: 5 p.m. ET 5/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 30, 2024.
Debbie-Anne A. Reese,
Acting Secretary.

[FR Doc. 2024-09836 Filed 5-6-24; 8:45 am]

BILLING CODE 6717-01-P